DEPARTMENT OF EDUCATION

Notice of Proposed Information Collection Requests

AGENCY: Department of Education.

ACTION: Correction notice.

SUMMARY: On April 26, 2005, the Department of Education published a notice in the Federal Register (Page 21403, Column 2) for the information collection, “The Professional Development Impact Study—Full Study Data Collection Instruments”. The Type of Review is hereby corrected to Revision. Under Reporting and Recordkeeping Hour Burden, the number of responses is corrected to 1,224 and the burden hours is corrected to 754. The Leader, Information Management Case Services Team, Regulatory Information Management Services, Office of the Chief Information Officer, hereby issues a correction notice as required by the Paperwork Reduction Act of 1995.

Dated: May 4, 2005.
Angela C. Arrington,
Information Management Case Services Team, Regulatory Information Management Services, Office of the Chief Information Officer.

[FR Doc. 05-9258 Filed 5-9-05; 8:45 am]

BILLING CODE 4000-01-P